DEPARTMENT OF COMMERCE

National Oceanic and Atmospheric Administration

RIN 0648-XE609

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Outreach and Education Technical Committee.

DATES: The meeting will convene Wednesday, June 1, 2016, from 12 noon to 5 p.m. and Thursday, June 2, 2016, from 8:30 a.m. to 3:30 p.m.

ADDRESSES: The meeting will take place at the Council's office, 2203 N. Lois Avenue, Suite 1100, Tampa, FL 33607; telephone: (813) 348-1630.

FOR FURTHER INFORMATION CONTACT: Charlene Ponce, Public Information Officer, Gulf of Mexico Fishery Management Council; charlene.ponce@gulfcouncil.org; telephone: (813) 348-1630.

SUPPLEMENTARY INFORMATION: The items of discussion on the agenda are as follows:

Outreach and Education Technical Committee Agenda

Wednesday, June 1, 2016, 12 noon to 5 p.m.

• Introductions and Adoption of Agenda

• Approval of Minutes

• Election of Officers

• Advisory Panel Orientation

• Overview of current Council outreach/education/communication initiatives

• Discussion—Public Hearing and Scoping Workshop Attendance

• Discussion—Gulf Council Data Portal

• Discussion—Potential for Shared Photo Library

• Overview of Communications Survey

Thursday, June 2, 2016, 8:30 a.m. to 3:30 p.m.

Workshop

• Culturally Sensitive and Targeted Outreach

• Messages that Connect

• Combat Communication for Conservationist

• Other business

— Meeting Adjourns—

The Agenda is subject to change, and the latest version along with other meeting materials will be posted on the Council's file server. To access the file server, the URL is https://public.gulfcouncil.org:5001/webman/index.cgi, or go to the Council's Web site and click on the File Server link in the lower left of the Council Web site (http://www.gulfcouncil.org). The username and password are both “gulfguest”. Click on the “Library Folder”, then scroll down to “O&E Technical Committee”.

The meeting will be webcast over the internet. A link to the webcast will be available on the Council's Web site, http://www.gulfcouncil.org.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: May 10, 2016.
Jeffrey N. Lonergan,
Acting Deputy Director, Office of Sustainable Fisheries, National Marine Fisheries Service.

[FR Doc. 2016-11429 Filed 5-13-16; 8:45 am]

BILLING CODE 3510-22-P